DEPARTMENT OF TRANSPORTATION

Federal Aviation Administration

14 CFR Part 39

[Docket No. 2003-NM-143-AD]

RIN 2120-AA64

Airworthiness Directives; Bombardier Model CL-600-2B19 (Regional Jet Series 100 & 440) Airplanes

AGENCY: Federal Aviation Administration, DOT.

ACTION: Notice of proposed rulemaking (NPRM).

SUMMARY: This document proposes the adoption of a new airworthiness directive (AD) that is applicable to certain Model CL-600-2B19 (Regional Jet Series 100 & 440) airplanes. This proposal would require revising the airworthiness limitations section of the Instructions for Continued Airworthiness by incorporating new structural inspection intervals for the vertical beams of the pressure bulkheads at fuselage stations 409+128 and 559; repairing the vertical beams if necessary; and submitting inspection findings to the airplane manufacturer. This action is necessary to detect and correct, in a timely manner, fatigue cracks in the vertical beams of the pressure bulkheads at fuselage stations 409+128 and 559, which could result in the reduced structural integrity of the airplane. This action is intended to address the identified unsafe condition.

DATES: Comments must be received by August 8, 2003.

ADDRESSES: Submit comments in triplicate to the Federal Aviation Administration (FAA), Transport Airplane Directorate, ANM-114, Attention: Rules Docket No. 2003-NM-143-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-143-AD” in the subject line and need not be submitted in triplicate. Comments sent via the Internet as attached electronic files must be formatted in Microsoft Word 97 or 2000 or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-143-AD.” The postcard will be date stamped and returned to the commenter.

Availability of NPRMs

Any person may obtain a copy of this NPRM by submitting a request to the FAA, Transport Airplane Directorate, ANM-114, Attention: Rules Docket No. 2003-NM-143-AD, 1601 Lind Avenue, SW., Renton, Washington 98055-4056.

Discussion

Transport Canada Civil Aviation (TCCA), which is the airworthiness authority for Canada, notified the FAA that an unsafe condition may exist on certain Bombardier Model CL-600-2B19 (Regional Jet series 100 & 440) airplanes. TCCA advises that fatigue cracks were found in the vertical beams of the pressure bulkheads at fuselage stations 409+128 and 559. This condition, if not corrected, could result in the reduced structural integrity of the airplane.

Explanation of Canadian Airworthiness Directive and Relevant Service Information

TCCA has issued Canadian airworthiness directive CF-2003-08, dated April 23, 2003, in order to ensure the continued airworthiness of these airplanes in Canada. The Canadian airworthiness directive requires revising the Transport Canada-approved maintenance schedule by incorporating the revised inspection requirements for airworthiness limitations (AWL) as introduced in Canadair Temporary Revision (TR) 2B-1566, Canadair Regional Jet Maintenance Requirements Manual, Part 2, Appendix B, “Airworthiness Limitations,” dated January 31, 2003. The TR describes new structural inspection intervals for the vertical beams of the pressure bulkheads at fuselage stations 409+128 and 559 and submission of inspection findings to the airplane manufacturer.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require revising the AWL section of the Instructions for Continued Airworthiness by incorporating new structural inspection intervals for the vertical beams of the pressure bulkheads at fuselage stations 409+128 and 559; repairing the vertical beams if necessary; and submitting inspection findings to the airplane manufacturer. The AWL revision is required to be accomplished per the TR described previously.

Interim Action

This is considered to be interim action. The inspection reports that would be required by this proposed AD would enable the manufacturer to obtain better insight into the cause of the fatigue cracks in the vertical beams of the pressure bulkheads at fuselage stations 409+128 and 559. Once final action has been identified, the FAA may consider further rulemaking.

Difference Between This Proposed AD and the Canadian Airworthiness Directive

Operators should note that, although the Canadian airworthiness directive requires that the Bombardier Aerospace Regional Aircraft Technical Help Desk be contacted for approved repair instructions, this proposed AD would require repairs to be accomplished per a method approved by either the FAA or TCAA (or its delegated agent). In light of the type of repair that would be required to address the identified unsafe condition, and in consonance with existing bilateral airworthiness agreements, the FAA has determined that, for this proposed AD, a repair approved by either the FAA or TCAA would be acceptable for compliance with this proposed AD.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOCs). Because we have now included this material in part 39, the office authorized to approve AMOCs is identified in each individual AD, and Note 1 includes a special provision for airplanes with respect to Airworthiness Limitations.

Increase in Labor Rate

We have reviewed the figures we have used over the past several years to calculate AD costs to operators. To account for various inflationary costs in the airline industry, we find it necessary to increase the labor rate used in these calculations from $60 per work hour to $65 per work hour. The cost impact information, below, has been revised to reflect this increase in the specified hourly labor rate.

Cost Impact

The FAA estimates that 533 airplanes of U.S. registry would be affected by this proposed AD, that it would take approximately 1 work hour per airplane to accomplish the proposed actions, and that the average labor rate is $65 per work hour. Based on these figures, the cost impact of the proposed AD on U.S. operators is estimated to be $34,645, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly Canadair): Docket 2003-NM-143-AD.

Applicability: Model CL-600-2B19 (Regional Jet series 100 & 440) airplanes, serial numbers 7003 through 7999 inclusive; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance from the office identified in paragraph (d) of this AD and Sections 39.19 and 39.21 of the Federal Aviation Regulations (14 CFR 39.19 and 39.21). The request should include a description of changes to the required inspections that will ensure the continued damage tolerance of the affected structure. The FAA has provided guidance for this determination in Advisory Circular (AC) 25-1529.

Compliance: Required as indicated, unless accomplished previously.

To detect and correct, in a timely manner, fatigue cracks in the vertical beams of the pressure bulkheads at fuselage stations 409+128 and 559, which could result in the reduced structural integrity of the airplane, accomplish the following:

Revise Airworthiness Limitations (AWL) Section

(a) Within 14 days after the effective date of this AD, revise the AWL section of the Instructions for Continued Airworthiness by incorporating the contents of Canadair Temporary Revision 2B-1566, Canadair Regional Jet Maintenance Requirements Manual, Part 2, Appendix B, “Airworthiness Limitations,” dated January 31, 2003, into the AWL section. Thereafter, except as provided in paragraph (d) of this AD, no alternative structural inspection intervals may be approved for the vertical beams on the pressure bulkheads at fuselage stations 409+128 and 559.

Note 2: When the contents of Temporary Revision (TR) 2B-1566 have been included in the general revisions of the AWL section, the general revisions may be incorporated into the AWL section, and the TR may be removed from the AWL section.

Repair and Revise AWL Section

(b) If any crack is found during any inspection done according to the AWL section of the Instructions for Continued Airworthiness specified in paragraph (a) of this AD, do the actions specified in paragraphs (b)(1) and (b)(2) of this AD.

(1) Before further flight: Repair per a method approved by either the Manager, New York Aircraft Certification Office (ACO), FAA; or Transport Canada Civil Aviation (TCCA) (or its delegated agent).

(2) Within 14 days after receiving the new airworthiness limitations associated with a repair: Revise the AWL section of the Instructions for Continued Airworthiness by inserting a copy of the new airworthiness limitation and inspection requirements associated with the FAA- or TCCA-approved repair referred to in paragraph (b)(1) of this AD into the Canadair Regional Jet Maintenance Requirements Manual, Part 2, Appendix B, “Airworthiness Limitations” section. Thereafter, except as provided in paragraph (d) of this AD, no alternative structural inspection intervals specified in the FAA- or TCCA-approved repair may be approved for the vertical beams on the pressure bulkheads at fuselage stations 409+128 and 559.

Reporting

(c) Submit a report of the findings (both positive and negative) of the inspection required by paragraph (a) of this AD to Bombardier, Inc., Canadair, Aerospace Group, CRJ Technical Help Desk, P.O. Box 6087, Station Centre-ville, Montreal, Quebec H3C 3G9, Canada; fax (514) 855-8501; at the applicable time specified in paragraph (c)(1) or (c)(2) of this AD. Information collection requirements contained in this AD have been approved by the Office of Management and Budget (OMB) under the provision of the Paperwork Reduction Act of 1980 (44 U.S.C. 3501 et seq.) and have been assigned OMB Control Number 2120-0056.

(1) If the inspection was done after the effective date of this AD: Submit the report within 30 days after the inspection.

(2) If the inspection was done prior to the effective date of this AD: Submit the report within 30 days after the effective date of this AD.

Alternative Methods of Compliance

(d) In accordance with 14 CFR 39.19, the Manager, New York ACO, FAA, is authorized to approve alternative methods of compliance for this AD.

Note 3: The subject of this AD is addressed in Canadian airworthiness directive Canadian airworthiness directive CF-2003-08, dated April 23, 2003.

Issued in Renton, Washington, on July 2, 2003.
Vi L. Lipski,
Manager, Transport Airplane Directorate, Aircraft Certification Service.

[FR Doc. 03-17319 Filed 7-8-03; 8:45 am]

BILLING CODE 4910-13-P